DEPARTMENT OF COMMERCE

National Oceanic and Atmospheric Administration

[RTID 0648-XA264]

Endangered Species; File Nos. 18238, 23639, and 23850

AGENCY: National Marine Fisheries Service (NMFS), National Oceanic and Atmospheric Administration (NOAA), Commerce.

ACTION: Notice; receipt of applications for permits and a permit modification.

SUMMARY: Notice is hereby given that three applicants have applied in due form for a permit or permit modification to take green (Chelonia mydas), hawksbill (Eretmochelys imbricata), Kemp's ridley (Lepidochelys kempii), leatherback (Dermochelys coriacea), loggerhead (Caretta caretta), and olive ridley (L. olivacea) sea turtles for purposes of scientific research.

DATES: Written, telefaxed, or email comments must be received on or before August 7, 2020.

ADDRESSES: Each application and related documents are available for review by selecting “Records Open for Public Comment” from the Features box on the Applications and Permits for Protected Species (APPS) home page, https://apps.nmfs.noaa.gov, and then selecting the applicable File No. from the list of available applications. These documents are also available upon written request via email to NMFS.Pr1Comments@noaa.gov.

Written comments on this application should be submitted via email to NMFS.Pr1Comments@noaa.gov. Please include the File No. in the subject line of the email comment.

Those individuals requesting a public hearing should submit a written request to NMFS.Pr1Comments@noaa.gov. The request should set forth the specific reasons why a hearing on the application would be appropriate.

FOR FURTHER INFORMATION CONTACT: Amy Hapeman or Erin Markin, (301) 427-8401.

SUPPLEMENTARY INFORMATION: The subject permits and permit modification are requested under the authority of the Endangered Species Act of 1973, as amended (16 U.S.C. 1531 et seq.) and the regulations governing the taking, importing, and exporting of endangered and threatened species (50 CFR parts 222-226).

File No. 18238-03: NMFS, Southwest Fisheries Science Center, 8901 La Jolla Shores Drive, La Jolla, California 92037, (Responsible Party: Robin LeRoux), proposes to modify Permit No. 18238-02. The permit, originally issued on April 21, 2016 (81 FR 43589, July 5, 2016), authorizes researchers to conduct long-term monitoring of green, loggerhead, olive ridley sea turtles in southern California waters. Researchers may conduct vessel surveys for sea turtle counts, captures, examination, observation, marking, biological sampling, tagging, and morphometrics. The permit holder requests authority to (1) take 10 hawksbill sea turtles annually as a target species for study; (2) increase the number of green, loggerhead, and olive ridley sea turtles that may be captured annually by 20, 50, 300 animals, respectively; (3) expand the study area; (4) use an unmanned aircraft system (UAS) for surveys and to sight turtles for capture; (5) analyze the microbiome and biotoxins in collected urine, cloacal, lavage, and/or fecal samples; (6) measure the internal body temperature of captured animals; (7) attach another type of suction cup tag to green sea turtles to study their energetics and nutrition; and (8) add personnel to operate the UAS. The permit is valid through September 30, 2025.

File No. 23639: Coonamessett Farm Foundation, Inc., 277 Hatchville Road, East Falmouth, MA 02536, (Responsible Party: Ronald Smolowitz), proposes to study the behavior and distributions of green, Kemp's ridley, leatherback, and loggerhead sea turtles within the northwestern Atlantic Ocean. Researchers would capture by dip net, measure, weigh, photograph, flipper and passive integrated transponder (PIT) tag, biologically sample (blood, cloacal swab, cloacal lavage, skin, scute, and fecal), tag (epoxy or suction cup) and release up to 15 green, 15 Kemp's ridley, and 30 loggerhead sea turtles annually. After release animals may be temporarily tracked with an underwater remotely operated vehicle (ROV). In addition, 45 green, 45 Kemp's ridley, and 60 loggerhead sea turtles annually may be tracked and observed in water by ROV only (no capture). Up to 30 leatherbacks annually may be sighted and tracked by a manned aircraft for subsequent vessel-based research involving remote attachment of a suction-cup tag, ROV tracking, and remote PIT tag scanning later in the same day. Another 60 leatherback and 20 unidentified sea turtles may be targeted for study in the same manner without tagging annually. The applicant also requests take of 45 green, 45 Kemp's ridley, 60 leatherback, 60 loggerhead, and 10 unidentified sea turtles annually for pursuit during unsuccessful capture or remote tagging attempts. The permit would be valid for up to 10 years from the date of issuance.

File No. 23850: Shigetomo Hirama, Florida Fish and Wildlife Conservation Commission, Fish and Wildlife Research Institute, 1105 SW Williston Road, Gainesville, FL, proposes to quantify threats to pelagic sea turtles and to gather information on their life history, genetics, movements, behavior, and diet of green, Kemp's ridley, hawksbill, leatherback, and loggerhead sea turtles in the waters around Florida. Up to 210 green, 20 hawksbill, 110 Kemp's ridley, 15 leatherback, and 210 loggerhead sea turtles would be captured annually by dip net, fecal sampled (opportunistically collected from naturally voided feces), oral examination, photographed/videoed, measured, and weighed, prior to release. A subset of sea turtles would be gastric lavaged, tagged (flipper, PIT), biologically sampled (scute, skin), and/or receive a satellite tag (epoxy attachment), prior to release. The permit would be valid for up to five years from the date of issuance.

Dated: July 1, 2020.
Amy Sloan,
Acting Chief, Permits and Conservation Division, Office of Protected Resources, National Marine Fisheries Service.

[FR Doc. 2020-14670 Filed 7-7-20; 8:45 am]

BILLING CODE 3510-22-P